DEPARTMENT OF ENERGY

Federal Energy Regulatory Commission

[Docket No. RP02-405-000]

CMS Trunkline Gas Company, LLC; Notice of Proposed Changes in FERC Gas Tariff

August 12, 2002.

Take notice that on August 1, 2002, CMS Trunkline Gas Company, LLC (Trunkline) tendered for filing as part of its FERC Gas Tariff, Second Revised Volume No. 1, revised tariff sheets as listed on Appendix A attached to the filing, to be effective September 1, 2002.

Trunkline states that this filing is being made to remove the currently effective surcharge pursuant to Section 23 (Miscellaneous Revenue Flowthrough Surcharge Adjustment) of the General Terms and Conditions in Trunkline's FERC Gas Tariff, First Revised Volume No. 1. The currently effective Section 23 surcharge adjustment was approved by the Commission on August 31, 2001 in Docket No. RP01-449-000 (96 FERC ¶61,244) to be effective September 1, 2001. The currently effective Section 23 surcharge adjustment terminates August 31, 2002, and is not being renewed because in Trunkline's settlement filed on February 21, 2002 in Docket Nos. RP00-475-000, RP00-609-000 and RP96-129-000 (Not Consolidated), Trunkline agreed to revise Section 23 to provide for flow through of cash out revenues and penalties in excess of costs to non-offending shippers by means of a billing adjustment credit instead of a surcharge adjustment. The settlement was approved by the Commission's Order on Order Nos. 637, 587-G and 587-L Settlement issued July 5, 2002 (100 FERC ¶61,048). Accordingly, it is necessary to eliminate the currently effective surchargers.

Trunkline states that copies of this filing are being served on all jurisdictional customers and interested state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-20839 Filed 8-15-02; 8:45 am]

BILLING CODE 6717-01-P